Proclamation 9429 of April 27, 2016

Loyalty Day, 2016

By the President of the United States of America

A Proclamation

America endures because of the generations of our people who have endeavored alongside one another, joining their voices and their efforts to ensure our Nation lives up to its highest ideals. Driven by the determination to continue making our society more just and more equal, our work to fulfill our country's potential has always relied on our willingness to see ourselves in our fellow citizens.

Our Nation has always been at its finest when guided by a spirit of shared sacrifice and common purpose. It is that spirit that led a small band of patriots to declare our fledgling democracy free from the grasp of tyranny, that slaves and abolitionists carried in their hearts as they marched forward on the long journey toward freedom, and that guides the men and women who wear our country's uniform in their selfless service. From the unlit paths of the Underground Railroad to the lunch counters of Greensboro, the first streets draped in the colors of pride to the highest Court in our land, we have seen throughout our history that America is inexorably driven forward by those who commit themselves to expanding our founding promise through extraordinary acts of courage and heroism. We honor that legacy—that demonstrates that the forces of hope and love of country are strong enough to overcome even our most deeply entrenched obstacles—by resolving to carry it forward, by rejecting appeals to prejudice and division in our time, and by drawing on the hopes and dreams that bind us.

While ours has always been a large and complicated democracy, full of differing views and boisterous debates, our history also makes clear that we are strongest when we find in our diversity a deeper, richer unity, stemming from an overarching belief in the possibilities our shared future holds. This Loyalty Day, let us remember that what defines us as one American people is our dedication to common ideals—rather than similarities of origin or creed—and let us reaffirm that embracing this truth lies at the heart of what it means to be a citizen. As long as we stay true to that mission and uphold our responsibility to deliver a freer, fairer Nation to the next generation, a future of ever greater progress will remain within our reach.

In order to recognize the American spirit of loyalty and the sacrifices that so many have made for our Nation, the Congress, by Public Law 85-529 as amended, has designated May 1 of each year as “Loyalty Day.” On this day, let us reaffirm our allegiance to the United States of America and pay tribute to the heritage of American freedom.

NOW, THEREFORE, I, BARACK OBAMA, President of the United States of America, do hereby proclaim May 1, 2016, as Loyalty Day. This Loyalty Day, I call upon all the people of the United States to join in support of this national observance, whether by displaying the flag of the United States or pledging allegiance to the Republic for which it stands.

IN WITNESS WHEREOF, I have hereunto set my hand this twenty-seventh day of April in the year of our Lord two thousand sixteen, and of the Independence of the United States of America the two hundred and fortieth.

[FR Doc. 2016-10309

Filed 4-29-16; 8:45 am]

Billing code 3295-F6-P